DEPARTMENT OF COMMERCE

Foreign-Trade Zones Board

[Order No. 2097]

Approval for Production Authority; Foreign-Trade Zone 158, MTD Consumer Group Inc. (Textile Grass-Catcher Bags), Verona, Mississippi

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing FTZs in or adjacent to U.S. Customs and Border Protection ports of entry;

Whereas, the Greater Mississippi Foreign-Trade Zone, Inc., grantee of FTZ 158, has requested production authority on behalf of MTD Consumer Group Inc. (MTD), within FTZ 158 in Verona, Mississippi (B-20-2018, docketed April 4, 2018);

Whereas, notice inviting public comment has been given in the Federal Register (83 FR 15360, April 10, 2018 and 84 FR 32707, July 9, 2019) and the application has been processed pursuant to the FTZ Act and the Board's regulations; and,

Whereas, the Board adopts the findings and recommendations of the examiner's report, and finds that the requirements of the FTZ Act and the Board's regulations would be satisfied, and that the proposal would be in the public interest if subject to the restrictions listed below;

Now, therefore, the Board hereby orders:

The application for production authority under zone procedures within FTZ 158 on behalf of MTD, as described in the application and Federal Register notices, is approved, subject to the FTZ Act and the Board's regulations, including Section 400.13, and further subject to the following restrictions:

(1) The annual quantitative volume of textile grass-catcher bags that MTD may admit into FTZ 158 under non-privileged foreign status (19 CFR 146.42) is limited to no more than 2.3 million bags; and,

(2) the authority (with quantitative restriction) shall remain in effect for a period of five years from the date of approval by the Board.

Dated: May 26, 2020.
Jeffrey I. Kessler,
Assistant Secretary for Enforcement and Compliance, Alternate Chairman, Foreign-Trade Zones Board.

[FR Doc. 2020-11706 Filed 5-29-20; 8:45 am]

BILLING CODE 3510-DS-P